DEPARTMENT OF EDUCATION

[Docket No.: ED-2024-SCC-0077]

Agency Information Collection Activities; Comment Request; Maintenance-of-Effort Requirements and Waiver Requests Under the Elementary and Secondary School Emergency Relief (ESSER) Fund and the Governor's Emergency Education Relief (GEER) Fund

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before July 29, 2024.

ADDRESSES: To access and review all the documents related to the information collection listed in this notice, please use http://www.regulations.gov by searching the Docket ID number Docket Search Results ED-2024-SCC-0077. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Andrew Brake, (202) 453-6136.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Maintenance-of-Effort Requirements and Waiver Requests under the Elementary and Secondary School Emergency Relief (ESSER) Fund and the Governor's Emergency Education Relief (GEER) Fund.

OMB Control Number: 1810-0745.

Type of Review: Extension without change of a currently approved ICR.

Respondents/Affected Public: State, Local, and Tribal Governments.

Total Estimated Number of Annual Responses: 81.

Total Estimated Number of Annual Burden Hours: 358.

Abstract: This is a request for an extension without change of an existing information collection, 1810-0745. This collection solicits from States, Outlying Areas, and State educational agencies (SEAs) maintenance of effort (MOE) data under section 18008 of the CARES Act. Under four programs the Governors Emergency Education Relief Fund (GEER Fund, section 18002) and the Elementary and Secondary School Emergency Relief Fund (ESSER Fund, section 18003) and two formula grant programs to the Outlying Areas authorized under section 18001(a)(1),Education Stabilization Fund-State Educational Agencies (ESF-SEA) and Education Stabilization Fund-Governors (ESF-Governor) States are required to maintain fiscal effort on behalf of elementary, secondary and postsecondary education. Recipients of the resources from the ESSER Fund, the GEER Fund, the ESF-SEA Fund, and the ESF-Governor Fund have signed Certifications and Agreements, in which they agree to abide by the provisions of the CARES Act, including MOE requirement.

Dated: May 23, 2024.
Kun Mullan,
PRA Coordinator, Strategic Collections and Clearance, Governance and Strategy Division, Office of Chief Data Officer, Office of Planning, Evaluation and Policy Development.

[FR Doc. 2024-11815 Filed 5-29-24; 8:45 am]

BILLING CODE 4000-01-P